DEPARTMENT OF THE INTERIOR

Fish and Wildlife Service

Notice of Availability of Draft Comprehensive Conservation Plan and Environmental Assessment for Big Branch Marsh National Wildlife Refuge in St. Tammany Parish, LA

AGENCY: Fish and Wildlife Service, Interior.

ACTION: Notice of availability.

SUMMARY: We, the Fish and Wildlife Service, announce that a Draft Comprehensive Conservation Plan and Environmental Assessment (Draft CCP/EA) for Big Branch Marsh National Wildlife Refuge is available for review and comment. The National Wildlife Refuge System Administration Act of 1966, as amended by the National Wildlife Refuge System Improvement Act of 1997, requires the Service to develop a CCP for each national wildlife refuge. This Draft CCP, when final, will describe how we intend to manage Big Branch Marsh National Wildlife Refuge over the next 15 years.

DATES: To ensure consideration, we must receive your comments no later than May 30, 2007.

ADDRESSES: Send your comments or requests for more information to: Charlotte Parker, Natural Resource Planner, 61389 Highway 434, Lacombe, LA 70445; Telephone: 985/882-2029. The Draft CCP/EA may be accessed and downloaded from the Service's Internet Web site: http://southeast.fws.gov/planning/ under “Draft Documents.”

SUPPLEMENTARY INFORMATION: Big Branch Marsh National Wildlife Refuge was established in 1994 and is presently comprised of approximately 18,600 acres of coastal marsh and pine forested wetlands. The purposes of the refuge are to: Provide habitat for a natural diversity of wildlife associated with the marsh of the refuge; provide wintering habitat for migratory waterfowl; provide nesting habitat for wood ducks; provide habitat for non-game migratory birds; and provide opportunities for public outdoor recreation, such as hunting, fishing, hiking, bird watching, and environmental education and interpretation, whenever they are compatible with the purposes of the refuge.

Significant issues addressed in the Draft CCP/EA include: Managing threatened and endangered species, species of concern, targeted species, and other species of Federal responsibility; conserving habitats native to the Lake Pontchartrain Basin; improving refuge visitor programs; increasing public outreach; providing formal environmental education programs; protecting archaeological and historical sites on the refuge; and, purchasing the remaining land inholdings within the established acquisition boundary of the refuge.

Three management alternatives are considered in the Draft CCP/EA. Alternative A continues current management, with no new actions to improve or enhance existing programs. Alternative B, the proposed alternative, emphasizes management of natural resources based on maintaining and improving wetland habitats, monitoring targeted flora and fauna representative of the Lake Pontchartrain Basin, and providing quality public use programs and wildlife-dependent recreational activities. Alternative C focuses on expanding public use activities to the fullest extent possible while conducting only mandated resource protection.

We will conduct the environmental review of this project in accordance with the requirements of the National Environmental Policy Act of 1969, as amended (42 U.S.C. 4321 et seq.); NEPA Regulations (40 CFR parts 1500-1508); other appropriate Federal laws and regulations; and our policies and procedures for compliance with those regulations. All comments received become part of the official public record. Requests for such comments will be handled in accordance with the Freedom of Information Act NEPA (40 CFR 1506(f)), and Departmental and Service policies and procedures.

Authority: This notice is published under the authority of the National Wildlife Refuge System Improvement Act of 1997, Public Law 105-57.

Dated: March 13, 2007.
Cynthia K. Dohner,
Acting Regional Director.

[FR Doc. E7-8162 Filed 4-27-07; 8:45 am]

BILLING CODE 4310-55-P